DEPARTMENT OF STATE

[Public Notice 9049]

Culturally Significant Objects Imported for Exhibition: Determinations: “From Bauhaus to Buenos Aires: Grete Stern and Horacio Coppola”

AGENCY: Department of State.

ACTION: Notice, correction.

SUMMARY: On August 4, 2014, notice was published on pages 45228 of the Federal Register (volume 79, number 149) of determinations made by the Department of State pertaining to the exhibition “From Bauhaus to Buenos Aires: Grete Stern and Horacio Coppola.” The referenced notice is corrected here to include additional objects as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the additional objects to be included in the exhibition “From Bauhaus to Buenos Aires: Grete Stern and Horacio Coppola,” imported from abroad for temporary exhibition within the United States, are of cultural significance. The additional objects are imported pursuant to loan agreements with the foreign owners or custodians. I also determine that the exhibition or display of the additional objects at The Museum of Modern Art, New York, NY, from on or about May 17, 2015, until on or about October 4, 2015, and at possible additional exhibitions or venues yet to be determined, is in the national interest. I have ordered that Public Notice of these Determinations be published in the Federal Register.

FOR FURTHER INFORMATION CONTACT: For further information, including a list of the imported objects, contact Julie Simpson, Attorney-Adviser, Office of the Legal Adviser, U.S. Department of State (telephone: 202-632-6467). The mailing address is U.S. Department of State, SA-5, L/PD, Fifth Floor (Suite 5H03), Washington, DC 20522-0505.

Dated: February 19, 2015.
Kelly Keiderling,
Principal Deputy Assistant Secretary, Bureau of Educational and Cultural Affairs, Department of State.

[FR Doc. 2015-04132 Filed 2-26-15; 8:45 am]

BILLING CODE 4710-05-P